DEPARTMENT OF THE INTERIOR

National Park Service

[NPS-WASO-NAGPRA-NPS0027112; PPWOCRADN0-PCU00RP14.R50000]

Notice of Inventory Completion: Tennessee Valley Authority, Knoxville, TN

AGENCY: National Park Service, Interior.

ACTION: Notice.

SUMMARY: The Tennessee Valley Authority (TVA) has completed an inventory of human remains and associated funerary objects in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to TVA. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to TVA at the address in this notice by March 6, 2019.

ADDRESSES: Dr. Thomas O. Maher, TVA, 400 West Summit Hill Drive, WT11C, Knoxville TN 37902-1401, telephone (865) 632-7458, email tomaher@tva.gov.

SUPPLEMENTARY INFORMATION: Notice is here given in accordance with the Native American Graves Protection and Repatriation Act (NAGPRA), 25 U.S.C. 3003, of the completion of an inventory of human remains and associated funerary objects under the control of TVA. The human remains and associated funerary objects were removed from archeological sites 40HW44 and 40HW45, Hawkins County, Tennessee.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains and associated funerary objects was made by TVA professional staff in consultation with representatives of the Absentee-Shawnee Tribe of Indians of Oklahoma; Alabama-Coushatta Tribe of Texas (previously listed as the Alabama-Coushatta Tribes of Texas); Cherokee Nation; Coushatta Tribe of Louisiana; Eastern Band of Cherokee Indians; Poarch Band of Creeks (previously listed as the Poarch Band of Creek Indians of Alabama); The Chickasaw Nation; The Choctaw Nation of Oklahoma; The Muscogee (Creek) Nation; The Seminole Nation of Oklahoma; and the United Keetoowah Band of Cherokee Indians in Oklahoma; hereafter referred to as “The Consulted Tribes.”

History and Description of the Remains

From June 23 to August 19, 1976, human remains representing, at minimum, 13 individuals were removed from site 40HW44 in Hawkins County, Tennessee, by the Office of Archaeological Research at the University of Alabama (OAR). TVA acquired this site on April 25, 1975 for the Phipps Bend Nuclear Power Plant project. TVA canceled the planned construction in the 1980s, and subsequently transferred this land to the Industrial Development Board of Hawkins County. This village site was explored using controlled surface collection, trenches, and five randomly placed 1x1 meter excavation units. Sixty-three features (pits, post molds and burials) were excavated. Five radiocarbon dates place the primary occupation during the Early Woodland (1000-300 B.C.) period.

The human remains are primarily adult males. No known individuals were identified. The 132 associated funerary objects include two animal bone fragments; one animal tooth pendant; one antler handle; two beaver incisors; one bone bullroarer; one bone pin; 23 pieces of chert debitage; 69 drilled bear canines; one Ebenezer PP/K; one greenstone celt; 17 Greenville Cluster PP/K; one piece of ground limestone; one ground steatite object; one piece of ground sandstone; one hammerstone; one limestone celt; three Long Branch Fabric Marked sherds; two chert preforms; one piece of red ochre; and two soapstone pendants.

From September 20 to November 15, 1976, human remains representing, at minimum, five individuals were removed from site 40HW45 in Hawkins County, Tennessee, by OAR. TVA acquired this site on April 25, 1975 for the Phipps Bend Nuclear Power Plant project. TVA canceled the planned construction in the 1980s, and subsequently transferred this land to the Industrial Development Board of Hawkins County. The site was explored using controlled surface collection, an eight meter long stratigraphic trench, and five randomly placed 2x2 meter excavation units. One hundred-twenty-four features, primarily pits of varying sizes, were excavated. Human burial units 1, 2 and 6 are from the Long Branch phase (600-400 B.C.) and burial units 4 and 7 from the Phipps phase (700-600 B.C.) of the Early Woodland period.

The human remains are primarily adult females. No known individuals were identified. The eight associated funerary objects include five Ebenezer PP/K; two Greenville Cluster PP/K; and one Nolichucky PP/K.

Determinations Made by the Tennessee Valley Authority

Officials of Tennessee Valley Authority have determined that:

• Pursuant to 25 U.S.C. 3001(9), the human remains described in this notice are Native American based on their presence in prehistoric archeological sites and osteological analysis.

• Pursuant to 25 U.S.C. 3001(9), the human remains described in this notice represent the physical remains of 18 individuals of Native American ancestry.

• Pursuant to 25 U.S.C. 3001(3)(A), the 140 objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• According to final judgments of the Indian Claims Commission or the Court of Federal Claims, the land from which the Native American human remains and associated funerary objects were removed is the aboriginal land of the Cherokee Nation; Eastern Band of Cherokee Indians; and the United Keetoowah Band of Cherokee Indians in Oklahoma.

• Pursuant to 43 CFR 10.11(c)(1), the disposition of the culturally unidentifiable human remains and associated funerary objects may be to the Cherokee Nation; Eastern Band of Cherokee Indians; and the United Keetoowah Band of Cherokee Indians in Oklahoma.

Additional Requestors and Disposition

Representatives of any Indian Tribe or Native Hawaiian organization not identified in this notice that wish to request transfer of control of these human remains and associated funerary objects should submit a written request with information in support of the request to Dr. Thomas O. Maher, TVA, 400 West Summit Hill Drive, WT11C, Knoxville, TN 37902-1401, telephone (865) 632-7458, email tomaher@tva.gov, by March 6, 2019]. After that date, if no additional requestors have come forward, transfer of control of the human remains and associated funerary objects to the Cherokee Nation; Eastern Band of Cherokee Indians; and the United Keetoowah Band of Cherokee Indians in Oklahoma may proceed.

The Tennessee Valley Authority is responsible for notifying The Consulted Tribes that this notice has been published.

Dated: December 4, 2018.
Melanie O'Brien,
Manager, National NAGPRA Program.

[FR Doc. 2019-00836 Filed 2-1-19; 8:45 am]

BILLING CODE 4312-52-P